DEPARTMENT OF HEALTH AND HUMAN SERVICES

National Institutes of Health

National Institute of Arthritis and Musculoskeletal and Skin Diseases; Amended Notice of Meeting

Notice is hereby given of a change in the meeting of the Arthritis and Musculoskeletal and Skin Diseases Special Grants Review Committee, February 28, 2005, 8 a.m. to February 28, 2005, 5 p.m., Bethesda Marriott, 5151 Pooks Hill Road, Bethesda, MD, 20814 which was published in the Federal Register on January 26, 2005, FR 70, 3721-3722.

The meeting date has changed to February 27-28, 2005. The meeting will begin the evening of February 27, 2005 from 7 p.m.-11 p.m. The morning of February 28, 2005 the meeting will begin at 7 a.m.-5 p.m. The meeting is closed to the public.

Dated: February 9, 2005.
LaVerne Y. Stringfield,
Director, Office of Federal Advisory Committee Policy.

[FR Doc. 05-2954 Filed 2-15-05; 8:45 am]

BILLING CODE 4140-01-M